DEPARTMENT OF STATE

[Public Notice 3405]

Culturally Significant Objects Imported for Exhibition Determinations: “Taoism And the Arts of China”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Taoism And the Arts of China,” imported from abroad for the temporary exhibition without profit within the United States, are of cultural significance. The objects are imported pursuant to a loan agreement with the foreign lenders. I also determine that the exhibition or display of the exhibit objects at the Art Institute of Chicago in Chicago, Illinois from on or about November 2, 2000 to on or about January 7, 2001, and at the Asian Art Museum in San Francisco, California from on or about February 21, 2001 to on or about May 12, 2001 is in the national interest. Public Notice of these Determinations is ordered to be published in the Federal Register.

FOR FURTHER INFORMATION CONTACT: For further information, including a list of the exhibit objects, contact Carol Epstein, Attorney-Adviser, Office of the Legal Adviser, U.S. Department of State (telephone: 202/619-6981). The address is U.S. Department of State, SA-44, 301 4th Street, S.W., Room 700, Washington, D.C. 20547-0001.

Dated: August 30, 2000.
Helena Kane Finn,
Acting Assistant Secretary for Educational and Cultural Affairs, United States Department of State.

[FR Doc. 00-22661 Filed 9-1-00; 8:45 am]

BILLING CODE 4710-08-P